DEPARTMENT OF TRANSPORTATION

Federal Aviation Administration

14 CFR Part 39

[Docket No. FAA-2015-3969; Directorate Identifier 2014-SW-010-AD; Amendment 39-18318; AD 2015-23-02]

RIN 2120-AA64

Airworthiness Directives; Agusta S.p.A. Helicopters

AGENCY: Federal Aviation Administration (FAA), Department of Transportation (DOT).

ACTION: Final rule; request for comments.

SUMMARY: We are adopting a new airworthiness directive (AD) for Agusta S.p.A. (Agusta) Model AB412 helicopters. This AD requires inspecting the filters installed on the pressure lines of utility hydraulic systems for metal particles. This AD is prompted by a report of a pump failure on the hydraulic external hoist caused by metal particles. These actions are intended to detect metal particles in the filter of the pressure line and prevent the pumps' failure, which could lead to a hoisting accident and injury to persons.

DATES: This AD becomes effective November 24, 2015.

We must receive comments on this AD by January 8, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for locating Docket No. FAA-2015-3969 or in person at the Docket Operations Office between 9 a.m. and 5 p.m., Monday through Friday, except Federal holidays. The AD docket contains this AD, the European Aviation Safety Agency (EASA) AD, and other information. The street address for the Docket Operations Office (telephone 800-647-5527) is in the ADDRESSES section. Comments will be available in the AD docket shortly after receipt.

For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 10101 Hillwood Pkwy., Room 6N-321, Fort Worth, TX 76177.

FOR FURTHER INFORMATION CONTACT: Matt Wilbanks, Aviation Safety Engineer, Regulations and Policy Group, Rotorcraft Directorate, FAA, 10101 Hillwood Pkwy., Fort Worth, TX 76177; email matt.wilbanks@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, issued EASA AD No. 2014-0063-E, dated March 12, 2014, to correct an unsafe condition for Agusta Model AB412 helicopters. EASA advises that during a hoist operation, a pressure line pump part number (P/N) 1-8072 Rev. A failed on a Model AB412 helicopter. Preliminary investigations reveal that unusual wear of an internal subcomponent generated metal particles, which caused the pump to fail, EASA advises. The root cause of this wear has not been determined.

This condition, if not detected and corrected, could lead to future pump failures, resulting in hoisting accidents and injuries. As a result, EASA requires repetitive inspections of the pump's filter for metal particles and replacement of the pressure line pump if particles exist. EASA advises that its AD is an interim action and that further AD action may follow, depending on the outcome of the investigations.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information

AgustaWestland has issued Bollettino Tecnico No. 412-140, dated March 11, 2014 (BT), for Model AB412 helicopters with a hydraulic external hoist P/N BL10300-60 installed. The BT notes that Agusta received a report that pump P/N 1-8072 Rev. A failed during a hoist operation on a Model AB412 helicopter due to metal particles generated by unusual wear of an internal subcomponent. The BT calls for inspecting the filter installed on the external hoist's pressure line for metal particles. The BT notes that an investigation is underway to determine the failure's root causes and that the BT could be updated.

AD Requirements

This AD requires, within 10 hours time-in-service (TIS) and thereafter at intervals not to exceed 25 hours TIS, inspecting to determine whether metal particles are in the filter installed on the pressure line of the utility hydraulic system. If there are any metal particles, this AD requires, before the next flight, flushing the utility hydraulic system, replacing the filter with an airworthy filter, and replacing the pressure line pump with an airworthy pressure line pump.

Interim Action

We consider this AD to be an interim action. The design approval holder is investigating the root cause for the unsafe condition identified in this AD. Once the investigation is completed, we might consider additional rulemaking.

Costs of Compliance

There are no costs of compliance with this AD because there are no helicopters with this type certificate on the U.S. Registry.

FAA's Justification and Determination of the Effective Date

There are no helicopters with this type certificate are on the U.S. Registry. Therefore, we believe it is unlikely that we will receive any adverse comments or useful information about this AD from U.S. Operators.

Since an unsafe condition exists that requires the immediate adoption of this AD, we determined that notice and opportunity for public comment before issuing this AD are unnecessary because there are none of these helicopters on the U.S. Registry and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-23-02 Agusta S.p.A.: Amendment 39-18318; Docket No. FAA-2015-3969; Directorate Identifier 2014-SW-010-AD.

(a) Applicability

This AD applies to Model AB412 helicopters with a hydraulic external hoist part number BL10300-60 installed, certificated in any category.

(b) Unsafe Condition

This AD defines the unsafe condition as failure of a hydraulic external hoist pressure line pump. This condition, if not detected and prevented, could result in loss of hydraulic pressure and subsequent injury to persons being lifted in the hoist.

(c) Effective Date

This AD becomes effective November 24, 2015.

(d) Compliance

You are responsible for performing each action required by this AD within the specified compliance time unless it has already been accomplished prior to that time.

(e) Required Actions

Within 10 hours time-in-service (TIS) and thereafter at intervals not to exceed 25 hours TIS:

(1) Inspect the hydraulic external hoist pressure line filter for metal particles.

(2) If there are any metal particles, before further flight, flush the utility hydraulic system, replace the pressure line pump, and replace the filter.

(f) Alternative Methods of Compliance (AMOCs)

(1) The Manager, Safety Management Group, FAA, may approve AMOCs for this AD. Send your proposal to: Matt Wilbanks, Aviation Safety Engineer, Regulations and Policy Group, Rotorcraft Directorate, FAA, 10101 Hillwood Pkwy., Fort Worth, TX 76177; email 9-asw-ftw-amoc-requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) AgustaWestland Bollettino Tecnico No. 412-140, dated March 11, 2014, which is not incorporated by reference, contains additional information about the subject of this AD. For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review a copy of the service information at the FAA, Office of the Regional Counsel, Southwest Region, 10101 Hillwood Pkwy., Room 6N-321, Fort Worth, TX 76177.

(2) The subject of this AD is addressed in European Aviation Safety Agency (EASA) AD No. 2014-0063-E, dated March 12, 2014. You may view the EASA AD on the Internet at http://www.regulations.gov by searching for and locating it in Docket No. FAA-2015-3969.

(h) Subject

Joint Aircraft Service Component (JASC) Code: 2550, Cargo Compartments.

Issued in Fort Worth, Texas, on October 30, 2015.
James A. Grigg,
Acting Assistant Manager, Rotorcraft Directorate, Aircraft Certification Service.

[FR Doc. 2015-28314 Filed 11-6-15; 8:45 am]

BILLING CODE 4910-13-P